DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator for Risk Management (Acting), Federal Emergency Management Agency, Department of Homeland Security.

State and county | Location and case No. | Chief executive officer of community | Community map repository | Date of modification | Community No.
Colorado:
Arapahoe (FEMA Docket No.: B-2251). | City of Aurora, (21-08-1133P). | The Honorable Mike Coffman, Mayor, City of Aurora, 15151 East Alameda Parkway, Aurora, CO 80012. | Public Works Department, 15151 East Alameda Parkway, Aurora, CO 80012. | Sep. 9, 2022 | 080002
Arapahoe (FEMA Docket No.: B-2244). | City of Centennial, (21-08-1000P). | The Honorable Stephanie Piko, Mayor, City of Centennial, 13133 East Arapahoe Road, Centennial, CO 80112. | Southeast Metro Stormwater Authority, 7437 South Fairplay Street, Centennial, CO 80112. | Sep. 9, 2022 | 080315
Connecticut:
Fairfield (FEMA Docket No.: B-2251). | Town of Greenwich (21-01-1171P). | The Honorable Fred Camillo, First Selectman, Town of Greenwich Board of Selectmen, 101 Field Point Road, 1st Floor, Greenwich, CT 06830. | Town Hall, 101 Field Point Road, Greenwich, CT 06830. | Sep. 14, 2022 | 090008
Florida:
Broward (FEMA Docket No.: B-2244). | City of Lauderdale Lakes (21-04-5598P). | The Honorable Hazelle P. Rogers, Mayor, City of Lauderdale Lakes, 4300 Northwest 36th Street, Lauderdale Lakes, FL 33319. | Development Services Planning and Zoning Section, 3521 Northwest 43rd Avenue, Lauderdale Lakes, FL 33319. | Sep. 14, 2022 | 120043
Pinellas (FEMA Docket No.: B-2251). | Unincorporated areas of Pinellas County (22-04-1973P). | The Honorable Charlie Justice, Chairman, Pinellas County Board of Commissioners, 315 Court Street, Clearwater, FL 33756. | Pinellas County Building Services Department, 440 Court Street, Clearwater, FL 33756. | Sep. 15, 2022 | 125139
Georgia:
Douglas (FEMA Docket No.: B-2251). | Unincorporated areas of Douglas County (21-04-2703P). | The Honorable Romona Jackson Jones, Chair, Douglas County Commission, 8700 Hospital Drive, 3rd Floor, Douglasville, GA 30134. | Douglas County Courthouse, 8700 Hospital Drive, 3rd Floor, Douglasville, GA 30134. | Sep. 16, 2022 | 130306
Kentucky:
Scott (FEMA Docket No.: B-2253). | City of Georgetown (22-04-2347P). | The Honorable Tom Prather, Mayor, City of Georgetown, 100 North Court Street, Georgetown, KY 40324. | Planning and Zoning Department, 230 East Main Street, Georgetown, KY 40324. | Sep. 12, 2022 | 210208
Maryland:
Prince George's (FEMA Docket No.: B-2244). | City of Laurel (22-03-0012P). | The Honorable Craig A. Moe, Mayor, City of Laurel, 8103 Sandy Spring Road, Laurel, MD 20707. | City Hall, 8103 Sandy Spring Road, Laurel, MD 20707. | Sep. 9, 2022 | 240053
Oklahoma:
Tulsa (FEMA Docket No.: B-2251). | City of Bixby (21-06-3360P). | Mr. Jared Cottle, Manager, City of Bixby, P.O. Box 70, Bixby, OK 74008. | Development, Services Department, 113 West Dawes Street, Bixby, OK 74008. | Sep. 19, 2022 | 400207
Pennsylvania:
Montgomery (FEMA Docket No.: B-2244). | Township of Lower Frederick (22-03-0084P). | The Honorable Marla Hexter, Chair, Township of Lower Frederick, Board of Supervisors, 53 Spring Mount Road, Schwenksville, PA 19473. | Township Hall, 53 Spring Mount Road, Schwenksville, PA 19473. | Sep. 8, 2022 | 420952
South Dakota:
Deuel (FEMA Docket No.: B-2251). | Town of Altamont (22-08-0536P). | The Honorable Jennifer Jensen, Mayor, Town of Altamont, 307 Carmen Street, Altamont, SD 57226. | Town Hall, 307 Carmen Street, Altamont, SD 57226. | Sep. 2, 2022 | 460320
Deuel (FEMA Docket No.: B-2251). | Town of Brandt (22-08-0536P). | The Honorable Greg Anderson, Mayor-President, Town of Brandt, P.O. Box 218, Brandt, SD 57218. | Town Hall, 112 Main Street, Brandt, SD 57218. | Sep. 2, 2022 | 460319
Texas:
Dallas (FEMA Docket No.: B-2251). | City of DeSoto (21-06-3174P). | The Honorable Rachel L. Proctor, Mayor, City of DeSoto, 211 East Pleasant Run Road, DeSoto, TX 75115. | Development Services Department, 211 East Pleasant Run Road, DeSoto, TX 75115. | Sep. 7, 2022 | 480172
Denton (FEMA Docket No.: B-2244). | City of Fort Worth (22-06-0542P). | The Honorable Mattie Parker, Mayor, City of Fort Worth, 200 Texas Street, Fort Worth, TX 76102. | Transportation and Public Works Department, Engineering Vault, 200 Texas Street, Fort Worth, TX 76102. | Sep. 15, 2022 | 480596
Denton (FEMA Docket No.: B-2251). | Town of Prosper (21-06-3249P). | The Honorable Ray Smith, Mayor, Town of Prosper, P.O. Box 307, Prosper, TX 75078. | Engineering Services Department, 250 West 1st Street, Prosper, TX 75078. | Sep. 12, 2022 | 480141
Denton (FEMA Docket No.: B-2251). | Unincorporated areas of Denton County (21-06-3249P). | The Honorable Andy Eads, Denton County Judge, 1 Courthouse Drive, Suite 100, Denton, TX 76201. | Denton County Development Services Department, 3900 Morse Street, Denton, TX 76208. | Sep. 12, 2022 | 480774
Harris (FEMA Docket No.: B-2253). | City of Houston (21-06-2034P). | The Honorable Sylvester Turner, Mayor, City of Houston, P.O. Box 1562, Houston, TX 77251. | Floodplain Management department, 1002 Washington Avenue, Houston, TX 77002. | Sep. 12, 2022 | 480296
Johnson (FEMA Docket No.: B-2244). | City of Burleson (21-06-2082P). | The Honorable Chris Fletcher, Mayor, City of Burleson, 141 West Renfro Street, Burleson, TX 76028. | City Hall, 141 West Renfro Street, Burleson, TX 76028. | Sep. 8, 2022 | 485459
Montgomery (FEMA Docket No.: B-2251). | City of Conroe (21-06-2197P). | The Honorable Jody Czajkoski, Mayor, City of Conroe, P.O. Box 3066, Conroe, TX 77305. | City Hall, 300 West Davis Street, Conroe, TX 77305. | Sep. 9, 2022 | 480484
Tarrant (FEMA Docket No.: B-2244). | City of Fort Worth (22-06-0310P). | The Honorable Mattie Parker, Mayor, City of Fort Worth, 200 Texas Street, Fort Worth, TX 76102. | Transportation and Public Works Department, Engineering Vault, 200 Texas Street, Fort Worth, TX 76102. | Sep. 15, 2022 | 480596
Williamson (FEMA Docket No.: B-2244). | City of Georgetown (21-06-2319P). | Mr. David Morgan, Manager, City of Georgetown, P.O. Box 409, Georgetown, TX 78626. | Mapping and GIS Department, 300-1 Industrial Avenue, Georgetown, TX 78626. | Sep. 8, 2022 | 481048
Williamson (FEMA Docket No.: B-2244). | City of Round Rock (22-06-0132P). | The Honorable Craig Morgan, Mayor, City of Round Rock, 221 East Main Street, Round Rock, TX 78664. | City Hall, 221 East Main Street, Round Rock, TX 78664. | Sep. 8, 2022 | 481079
Williamson (FEMA Docket No.: B-2244). | Unincorporated areas of Williamson County (21-06-2319P). | The Honorable Bill Gravell, Jr., Williamson County Judge, 710 South Main Street, Suite 101, Georgetown, TX 78626. | Williamson County, Engineering Department, 3151 Southeast Inner Loop, Georgetown, TX 78626. | Sep. 1, 2022 | 481079
Williamson (FEMA Docket No.: B-2244). | Unincorporated areas of Williamson County (22-06-0132P). | The Honorable Bill Gravell, Jr., Williamson County Judge, 710 South Main Street, Suite 101, Georgetown, TX 78626. | Williamson County, Engineering Department, 3151 Southeast Inner Loop, Georgetown, TX 78626. | Sep. 8, 2022 | 481079
Utah:
Washington (FEMA Docket No.: B-2251). | City of St. George (22-08-0191P). | The Honorable Michele Randall, Mayor, City of St. George, 175 East 200 North, St. George, UT 84770. | City Hall, 175 East 200 North, St. George, UT 84770. | Sep. 12, 2022 | 490177
Virginia:
Charles City (FEMA Docket No.: B-2253). | Unincorporated areas of Charles City County (22-03-0523P). | Michelle Johnson, Administrator, Charles City County, P.O. Box 128, Charles City, VA 23030. | Charles City County, Government Administration Building, 10900 Courthouse Road, Charles City, VA 23030. | Sep. 9, 2022 | 510198
West Virginia:
Wood (FEMA Docket No.: B-2244). | Unincorporated areas of Wood County (22-03-0440P). | The Honorable David Blair Couch, President, Wood County Commission, 1 Court Square, Suite 205, Parkersburg, WV 26101. | Wood County Commission Office, 1 Court Square, Suite 205, Parkersburg, WV 26101. | Sep. 9, 2022 | 540213

[FR Doc. 2022-22317 Filed 10-13-22; 8:45 am]

BILLING CODE 9110-12-P